DEPARTMENT OF THE INTERIOR

Bureau of Land Management

[LLMT-06000-01-L10200000-PG0000]

Notice of Public Meeting; Central Montana Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central Montana Resource Advisory Council (RAC) will meet as indicated below.

DATES: The meeting will be held December 6 and 7, 2011. The December 6 meeting will begin at 10 a.m. with a 30-minute public comment period and will adjourn at 5 p.m. The December 7 meeting will begin at 8 a.m. with a 30-minute public comment period and will adjourn at 3 p.m.

ADDRESSES: The meetings will be in the Bureau of Land Management's Central Montana District Office, at 920 NE Main Street, in Lewistown, MT.

SUPPLEMENTARY INFORMATION: This 15-member council advises the Secretary of the Interior on a variety of management issues associated with public land management in Montana. During these meetings the council will participate in/discuss/act upon these topics/activities: RAC charter review/orientation, RAC Roundtable, Associate/State Director's vision, Gilmore cabin rental proposal, District managers' updates, RAC 2012 work plan, Category 1 presentation, recreation statistics, national landscape conservation, open discussion; and administrative details. All RAC meetings are open to the public. The public may present written comments to the RAC. Each formal RAC meeting will also have time allocated for hearing public comments. Depending on the number of persons wishing to comment and time available, the time for individual oral comments may be limited.

FOR FURTHER INFORMATON CONTACT: Gary L. “Stan” Benes, Lewistown District Manager, Lewistown Field Office, 920 NE Main, Lewistown, MT 59457, (406) 538-1900, gary_benes@blm.gov. Persons who use a telecommunications device for the deaf (TDD) may call the Federal Information Relay Service (FIRS) at 1-(800) 677-8339 to contact the above individual during normal business hours. The FIRS is available 24 hours a day, 7 days a week to leave a message or question with the above individual. You will receive a reply during normal business hours.

Cynthia Staszak,
Acting State Director.

[FR Doc. 2011-28860 Filed 11-7-11; 8:45 am]

BILLING CODE 4310-DN-P